DEPARTMENT OF HEALTH AND HUMAN SERVICES

Centers for Disease Control and Prevention

Notice of Award of a Sole Source Cooperative Agreement To Fund Kisumu County Government—Department of Health Services, Serviços Provincial de Saúde Gaza, Serviços Provincial de Saude Nampula, and Senegal Ministry of Health and Social Action (MHSA)

AGENCY: Centers for Disease Control and Prevention (CDC), Department of Health and Human Services (HHS).

ACTION: Notice.

SUMMARY: The Centers for Disease Control and Prevention (CDC), located within the Department of Health and Human Services (HHS), announces the award(s) of approximately $500,000, for Year 1 funding to Kisumu County Government—Department of Health Services, $8,000,000, for Year 1 funding to Serviços Provincial de Saúde Gaza, $2,500,000, for Year 1 funding to Serviços Provincial de Saude Nampula and $800,000 for Year 1 funding to MHSA. These awards will achieve and sustain HIV/TB epidemic control through sustainable high-quality comprehensive HIV prevention and treatment services, health service delivery models, and health systems in Kenya, Mozambique and West Africa-Senegal. Funding amounts for years 2-5 will be set at continuation.

DATES: The period for these awards will be September 30, 2024, through September 29, 2029.

FOR FURTHER INFORMATION CONTACT: Dr. Appolonia Aoko, Center for Global Health, Centers for Disease Control and Prevention, U.S Embassy, United Nations Avenue, P.O. Box 606, Village Market, 00621, Nairobi, Telephone: 254-710-602-785, Email: luo7@cdc.gov; Scott Salo, Center for Global Health, Centers for Disease Control and Prevention, Avenida Marginal nr 5467 Sommerschield, Distrito Municipal de KaMpfumo Caixa Postal 783 CEP 0101-11 Maputo, Moçambiqu), Telephone: 404-553-7439, Email: evf1@cdc.gov; Raimi Ewetola, Center for Global Health, Centers for Disease Control and Prevention, US Embassy, Ouagadougou, Burkina Faso. Sector 15, Ouaga 2000. Rue 15.873, Telephone: 0022675696420, Email: hcx6@cdc.gov.

SUPPLEMENTARY INFORMATION: These sole source award(s) will achieve and sustain HIV/TB epidemic control through sustainable high-quality comprehensive HIV prevention and treatment services, health service delivery models, and health systems in Kenya, Mozambique and West Africa-Senegal.

Kisumu County Government-Department of Health Service is in a unique position to conduct this work as the 2010 Kenyan constitution prescribed roles for the county governments, whereby each county is responsible for provision of health care services to its residents. Accordingly, in this devolution of health service delivery to the county level, Kisumu County Department of Health Service has the sole mandate to manage the public health response to HIV/AIDS in the county. Another county government is not allowed to implement services within Kisumu County.

Serviços Provincial de Saúde Gaza is in a unique position to conduct this work given that the Serviços Provincial de Saúde in Mozambique are government organizations established by law and mandated to plan, coordinate, and supervise all health-related activities at the tertiary and secondary level, including HIV/AIDS activities, within their provincial jurisdiction. The Serviços Provincial de Saúde is the Provincial Agency of the State Apparatus, which according to the principles, objectives, and tasks defined by the Government of Mozambique directs and ensures the execution of health activities at the provincial level.

Serviços Provincial de Saude Nampula is in a unique position to conduct this work as it is the dedicated government entity delegated by Mozambican Government which oversees the health portfolio including HIV and TB services in the province of Nampula. In Mozambique, the governmental public health infrastructure is organized into the central or national entity (Ministry of Health or the Provincial Health Directorates) that implement activities at the primary healthcare level, and the Provincial Health Service (Serviços Provincial de Saude), that lead all health services within the province.

MHSA is in a unique position to conduct this work, as it is responsible for administrating government-provided health services and implementing national government policies on health care and public health in Senegal. The MHSA is the only entity authorized by the government of Senegal to provide and manage comprehensive health services within the country in accordance with approved national policies.

Summary of the award:

Recipient: Kisumu County Government-Department of Health Services, Serviços Provincial de Saúde Gaza, Serviços Provincial de Saude Nampula and Senegal Ministry of Health and Social Action (MHSA).

Purpose of the Award: The purpose of this award is to achieve and sustain HIV/TB epidemic control through sustainable high-quality comprehensive HIV prevention and treatment services, health service delivery models, and health systems in Kenya, Mozambique and West Africa-Senegal.

Amount of Award: For Kisumu County Government-Department of Health Services, the approximate year 1 funding amount will be $500,000 in Federal Fiscal Year (FYY) 2024 funds, subject to the availability of funds. Funding amounts for years 2-5 will be set at continuation.

Amount of Award: For Serviços Provincial de Saúde Gaza, the approximate year 1 funding amount will be $8,000,000 in Federal Fiscal Year (FYY) 2024 funds, subject to the availability of funds. Funding amounts for years 2-5 will be set at continuation.

Amount of Award: For Serviços Provincial de Saude Nampula, the approximate year 1 funding amount will be $2,500,000 in Federal Fiscal Year (FYY) 2024 funds, subject to the availability of funds. Funding amounts for years 2-5 will be set at continuation.

Amount of Award: For MHSA, the approximate year 1 funding amount will be $800,000 in Federal Fiscal Year (FYY) 2024 funds, subject to the availability of funds. Funding amounts for years 2-5 will be set at continuation.

Authority: This program is authorized under Public Law 108-25 (the United States Leadership Against HIV AIDS, Tuberculosis and Malaria Act of 2003) [22 U.S.C. 7601, et seq.] and Public Law 110-293 (the Tom Lantos and Henry J. Hyde United States Global Leadership Against HIV/AIDS, Tuberculosis, and Malaria Reauthorization Act of 2008), and Public Law 113-56 (PEPFAR Stewardship and Oversight Act of 2013).

Period of Performance: The period for this award will be September 30, 2024, through September 29, 2029.

Dated: January 24, 2024.
Jamie Legier,
Acting Director, Office of Grants Services, Acting Chief Grants Management Officer, Centers for Disease Control and Prevention.

[FR Doc. 2024-02504 Filed 2-6-24; 8:45 am]

BILLING CODE 4163-18-P